ENVIRONMENTAL PROTECTION AGENCY

[ER-FRL-6689-7]

Environmental Impacts Statements; Notice of Availability

Responsible Agency: Office of Federal Activities, General Information (202) 564-7167 or http://www.epa.gov/compliance/nepa/.

Weekly receipt of Environmental Impact Statements

Filed 07/30/2007 Through 08/03/2007

Pursuant to 40 CFR 1506.9.

EIS No. 20070328, Final Supplement, BLM, MT, Golden Sunlight Mine Pit Reclamation Alternatives, Preferred Alternative Selected is the Underground Sump Alternative, Operating Permit No. 00065 and Plan-of-Operations #MTM 82855, Whitehall, Jefferson County, MT, Wait Period Ends: 09/10/2007, Contact: David Williams 406-533-7655.

EIS No. 20070329, Final EIS, GSA, OH, Cincinnati National Institute for Occupational Safety and Health (NIOSH) Laboratories Consolidation, Site Selection, Hamilton and Clermont Counties, OH, Wait Period Ends: 09/10/2007, Contact: Phil Youngberg 404-433-8393.

EIS No. 20070330, Draft EIS, IBW, CA, PROGRAMMATIC—Tijuana River Flood Control Project, Proposing a Range of Alternatives for Maintenance Activities and Future Improvements, San Diego County, CA, Comment Period Ends: 09/24/2007, Contact: Daniel Borunda 915-832-4767.

EIS No. 20070331, Draft EIS, IBW, TX, PROGRAMMATIC—Rio Grande Flood Control Projects, Proposing a Range of Alternatives for Maintenances Activities and Future Improvements, along the Texas-Mexico Border, Comment Period Ends: 09/24/2007, Contact: Daniel Borunda 915-832-4767.

EIS No. 20070332, Draft EIS BLM, OR, Western Oregon Bureau of Land Management Districts of Salem, Eugene, Roseburg, Coos Bay, and Medford Districts, and the Klamath Falls Resource Area of Lakeview District, Revision of the Resource Management Plans, Implementation, OR, Comment Period Ends: 11/09/2007, Contact: Dick Prather 503-808-6627.

EIS No. 20070333, Final EIS, AFS, OR, Spears Vegetation Management Project, Proposal to Use Commercial Timber Harvest, Precommercial Thinning, Prescribed Fire, Grapple Piling and Hand Piling in the Mark Creek Watershed and Veaqie Creek Subwatershed, Lookout Mountain Ranger District, Ochoco National Forest, Crook and Wheeler Counties, OR, Wait Period Ends: 09/10/2007, Contact: Katherine Farrell 541-416-6500.

EIS No. 20070334, Final EIS, AFS, CO, Lizard Head Road Easement, Application from Private Landowners Requesting a Permit to Cross Public Lands to Access Non-Federal Lands, San Juan National Forest, Dolores Ranger District, Dolores County, CO, Wait Period Ends: 09/10/2007, Contact: Jim Powers 970-385-1211.

EIS No. 20070335, Final EIS, NRC, VT Generic—License Renewal of Nuclear Plants, Supplement 30 to NUREG1437, Regarding Vermont Yankee Nuclear Power Station, Vernon, VT, Wait Period Ends: 09/10/2007, Contact: Richard L. Emch 301-415-1570.

EIS No. 20070336, Final EIS, FHW, UT, South Logan to Providence Transportation Corridor Project, Improvements to 100 East Street between 300 South (Logan) to Providence Lane (100 North) in Providence, Funding and Right-of-Way Grant, Cities of Logan and Providence, Cache County, UT, Wait Period Ends: 09/10/2007, Contact: Doug Atkin 801-963-0182.

EIS No. 20070337, Final EIS, TVA, AL, Bear Creek Dam Leakage Resolution Project, To Modify Dam and Maintain Summer Pool Level of 576 Feet, Bear Creek Dam, Franklin County, AL, Wait Period Ends: 09/10/2007, Contact: Charles P. Nicholson 865-632-3582.

EIS No. 20070338, Draft Supplement, TVA, TN, Watts Bar Reservoir Land Management Plan, Amend and Update the 2005 Plan, Guide Land Use Approvals, Private Water Use Facility, and Resource Management Decisions, Loudon, Meigs, Rhea and Roane Counties, TN, Comment Period Ends: 09/24/2007, Contact: Richard L. Toennisson 865-632-8517.

EIS No. 20070339, Draft EIS, COE, GU, Apra Harbor Master Plan for Deep-Draft Wharf and Fill Improvements, Implementation, Piti, Guam, Comment Period Ends: 09/24/2007, Contact: James Hatashima 808-438-2264.

EIS No. 20070340, Final EIS, FRC, 00, Southeast Expansion Project, Construction and Operation of 110.8 miles for Natural Gas Pipeline and Associated Ancillary Facilities, TX and LA, Wait Period Ends: 09/10/2007, Contact: Andy Black 1-866-208-3372.

EIS No. 20070341, Final EIS, NPS, MA, Cape Cod National Seashore (CACO) Hunting Program, General Management Plan, Implementation, Barnstable County, MA, Wait Period Ends: 09/10/2007, Contact: Carrie Phillips 508-349-3785 Ext. 216.

EIS No. 20070342, Final EIS, FRC, GA, Elba III Project, Construct, Operate and Acquire Facilities to move Re-Vaporized Liquefied Natural Gas (LNG), U.S. Army COE Section 10 and 404 Permits and U.S. Coast Guard Permit, Elba Island, Chatham County, GA, Wait Period Ends: 09/10/2007, Contact: Andy Black 1-866-208-3372.

EIS No. 20070343, Draft EIS, STA, 00, Keystone Oil Pipeline Project, Proposed Construction, Connection, Operation and Maintenance, Applicant for Presidential Permit, ND, SD, NE, KS, MO, IL and OK, Comment Period Ends: 09/24/2007, Contact: Elizabeth Orlando 202-647-4284.

EIS No. 20070344, Draft EIS, FHW, VT, Circ-Williston Transportation Project, Improvements between I-89 and the Towns Williston and Essex and the Village of Essex Junction, City of Burlington, Chittenden County, VT, Comment Period Ends: 11/08/2007, Contact: Kenneth R. Sikora, Jr. 802-828-4424.

Amended Notices

EIS No. 20070266, Draft EIS, SFW, 00, Lake Umbagog National Wildlife Refuge, Comprehensive Conservation Plan, 15 Year Guidance for Management of Refuge Operations, Habitat and Visitor Services, Implementation, Coos County, NH and Oxford County, ME, Comment Period Ends: 09/21/2007, Contact: Nancy McGarigal 413-253-8562 Revision of FR Notice Published 07/06/2007: Extending Comment Period from 08/20/2007 to 09/21/2007.

EIS No. 20070307, Draft EIS, USA, 00, Permanent Home Stationing of the 2/25th Stryker Brigade Combat Team (SBECT), to Address a Full Range of Alternatives for Permanently Stationing the 2/25th SBCT, Hawaii and Honolulu Counties, HI; Anchorage and Southeast Fairbanks Boroughs, AK; El Paso, Pueblo, and Fremont Counties, CO, Comment Period Ends: 10/30/2007, Contact: Michael Ackerman 410-436-2522. Revision of FR Notice Published 07/20/2007; Extending Comment Period from 09/04/2007 to 10/30/2007.

EIS No. 20070322, Draft EIS, NPS, AZ, Saguaro National Park General Management Plan, Implementation, Rincon Mountain District and Tucson Mountain District, Pima County, AZ, Comment Period Ends: 10/02/2007, Contact: Mary McVeigh 303-969-2442. Revision of FR Notice Published 08/03/2007: Correction to Comment Period from 09/17/2007 to 10/02/2007.

Dated: August 6, 2007.
Robert W. Hargrove,
Director, NEPA Compliance Division, Office of Federal Activities.

[FR Doc. 07-3921 Filed 8-9-07; 8:45 am]

BILLING CODE 6560-50-M